DEPARTMENT OF TRANSPORTATION

Federal Highway Administration

Environmental Impact Statement: U.S. 64/Corridor K. The Project Begins on U.S. 64 From West of the Ocoee River to State Route 68 Near Ducktown in Polk County, TN

AGENCY: Federal Highway Administration (FHWA), DOT.

ACTION: Notice of Intent (NOI).

SUMMARY: The Federal Highway Administration (FHWA) is issuing this notice to advise the public that an Environmental Impact Statement (EIS) will be prepared for a proposed highway project in Polk County, Tennessee.

FOR FURTHER INFORMATION CONTACT: Mr. Charles J. O'Neill, Planning and Program Management Team Leader, Federal Highway Administration, Tennessee Division Office, Address: 404 BNA Drive, Suite 508, Nashville, Tennessee 37217, Telephone: (615) 781-5770, E-mail: Charles.ONeill@dot.gov.

SUPPLEMENTARY INFORMATION: The FHWA, in cooperation with the Tennessee Department of Transportation, will prepare an EIS for the proposed U.S. 64/Appalachian Development Corridor K project from west of the Ocoee River to State Route 68 near Ducktown, a distance of approximately 20 miles. The southern boundary of the Corridor K project study area is along the Tennessee-Georgia state line. The northern boundary, in general, is along the Hiwassee River and Ocoee River watershed boundary. A NOI for the same project corridor was previously published on August 28, 1999 and then rescinded on May 21, 2008 due to the decision that a new EIS was needed to include and evaluate new information and a new economic development study.

Alternatives to be considered include: (1) No-build; (2) a Transportation System Management (TSM) alternative; (3) a transit alternative; (4) one or more build alternatives that could include constructing a roadway on a new location, upgrading existing U.S. 64, or a combination of both, and (5) other alternatives that may arise from public input. Public scoping meetings will be held for the project corridor. As part of the scoping process, federal, state, and local agencies and officials; private organizations; citizens; and interest groups will have an opportunity to identify issues of concern and provide input on the purpose and need for the project, range of alternatives, methodology, and the development of the EIS. A Coordination Plan has been developed to include the public in the project development process. This plan utilizes the following outreach efforts to provide information and solicit input: Coordination through a Citizens Resource Team, newsletters, an Internet Web site, e-mail and direct mail, informational meetings and briefings, public hearings, and other efforts as necessary and appropriate. A public hearing will be held upon completion of the Draft EIS and public notice will be given of the time and place of the hearing. The Draft EIS will be available for public and agency review and comment prior to the public hearings.

To ensure that the full range of issues related to this proposed action are identified and taken into account, comments and suggestions are invited from all interested parties. Comments and questions concerning the proposed action should be directed to the FHWA contact person identified above at the address provided above.

(Catalog of Federal Domestic Assistance Program Number 20.205, Highway Planning and Construction. The regulations implementing Executive Order 12372 regarding intergovernmental consultation on Federal programs and activities apply to this proposed program).

Charles J. O'Neill,
Planning & Program Mgmt. Team Leader, Nashville, TN.

[FR Doc. 2010-23527 Filed 9-20-10; 8:45 am]

BILLING CODE 4910-22-P